DEPARTMENT OF LABOR

Employment and Training Administration

[TA-W-56,616]

R.J. Reynolds Tobacco, Richmond, VA; Notice of Termination of Investigation

Pursuant to section 221 of the Trade Act of 1974, an investigation was initiated on February 21, 2005 in response to petition filed by a company official on behalf of workers at R.J. Reynolds Tobacco Company, located in Richmond, Virginia.

The petitioner has requested that the petition be withdrawn. Consequently, further investigation in this case would serve no purpose, and the investigation has been terminated.

Signed in Washington, DC, this 16th day of March, 2005.
Richard Church,
Certifying Officer, Division of Trade Adjustment Assistance.

[FR Doc. E5-1444 Filed 3-31-05; 8:45 am]

BILLING CODE 4510-30-P